FEDERAL DEPOSIT INSURANCE CORPORATION

Notice of Change in Subject Matter of Agency Meeting

Pursuant to the provisions of subsection (e)(2) of the “Government in the Sunshine Act” (5 U.S.C. 552b(e)(2)), notice is hereby given that at its open meeting held at 10:00 a.m. on Tuesday, March 20, 2018, the Corporation's Board of Directors determined, on motion of Vice Chairman Thomas M. Hoenig, seconded by Director Joseph M. Otting (Comptroller of the Currency), concurred in by Director Mick Mulvaney (Acting Director, Consumer Financial Protection Bureau), and Chairman Martin J. Gruenberg, that Corporation business required the addition to the agenda for consideration at the meeting, on less than seven days' notice to the public, of the following matters:

Memorandum and resolution re: Final Rule to Implement Increase in Appraisal Threshold for Commercial Real Estate Transactions.

The Board further determined, by the same majority vote, that no notice earlier than March 20, 2018, of the change in the subject matter of the meeting was practicable.

Dated: March 20, 2018.
Federal Deposit Insurance Corporation.
Robert E. Feldman,
Executive Secretary.

[FR Doc. 2018-05933 Filed 3-22-18; 8:45 am]

BILLING CODE P